SMALL BUSINESS ADMINISTRATION

Suspension of Applicants for Small Disadvantaged Business Program

AGENCY: U.S. Small Business Administration.

ACTION: Notice.

SUMMARY: The Small Business Administration (SBA) is suspending the receipt of applications for the Government-wide small disadvantaged business (SDB) program effective September 22, 2008. SBA will continue to process all applications received before that date to completion, unless an applicant withdraws its application.

DATES: Effective Date: September 22, 2008.

Applicability Date: This suspension applies until lifted by SBA through notice in the Federal Register.

FOR FURTHER INFORMATION CONTACT: Leo Sanchez, Acting Director, Office of Certification and Eligibility, at (202) 619-1658, or Leo.Sanchez@sba.gov.

SUPPLEMENTARY INFORMATION: Since 1996, the SBA has performed this function on behalf of all Federal procuring agencies and has received reimbursement from these other agencies through Economy Act Agreements. On December 9, 2004, Congress allowed the price evaluation adjustment authority for SDBs to expire for the majority of agencies. As a consequence, other agencies have become less inclined to enter into Economy Act Agreements to pay for the SBA SDB certification process. As SBA reassesses the SDB certification program, SBA believes that it is necessary to suspend the receipt of further applications for SDB certification. During this suspension, SBA will continue to process all applications received prior to the effective date of the suspension to completion. This means that any application that is initially denied on reconsideration may be appealed to SBA's Office of Hearings and Appeals pursuant to SBA's regulations. In addition, SBA will continue to process protests of SDB eligibility in connection with specific Government contracts or subcontracts during the suspension. Any firm not wishing to complete the application process may withdraw its SDB application at any time.

Dated: September 16, 2008.
Calvin Jenkins,
Acting Associate Administrator for Government Contracting and Business Development.

[FR Doc. E8-22388 Filed 9-22-08; 8:45 am]

BILLING CODE 8025-01-P